DEPARTMENT OF COMMERCE

National Oceanic and Atmospheric Administration

50 CFR Part 635

[Docket No. 220919-0193]

RTID 0648-XE977

Atlantic Highly Migratory Species; Atlantic Bluefin Tuna Fisheries; Angling Category Retention Limit Adjustment

AGENCY: National Marine Fisheries Service (NMFS), National Oceanic and Atmospheric Administration (NOAA), Commerce.

ACTION: Temporary rule; retention limit adjustment.

SUMMARY: NMFS has determined, based on consideration of the regulatory determination criteria regarding inseason adjustments, that the Atlantic bluefin tuna (BFT) daily retention limit that applies to Atlantic Highly Migratory Species (HMS) Angling and HMS Charter/Headboat permitted vessels (when fishing recreationally for BFT) should be adjusted for the remainder of 2025, or until further modified. NMFS is adjusting the Angling category BFT daily retention limit to: one BFT per vessel per day/trip that can measure anywhere from 27 inches (68.5 cm) to less than 73 inches (185 cm) curved fork length (CFL) for private vessels with HMS Angling permits, and two BFT per vessel per day/trip measuring 27 inches (68.5 cm) to less than 73 inches (185 cm) CFL, only one of which can be a large school/small medium-sized fish (47 inches (119 cm) to less than 73 inches (185 cm) CFL), for charter boat vessels and headboat vessels with HMS Charter/Headboat permits when fishing recreationally for BFT. If needed, NMFS could take another action later in the year to modify these retention limits or close the fishery. These retention limits are effective in all areas, except for the Gulf of America, where targeted fishing for BFT is prohibited.

DATES: Effective July 1, 2025 through December 31, 2025 or until NMFS via the Federal Register announces another adjustment to the retention limit.

FOR FURTHER INFORMATION CONTACT: Brad McHale, brad.mchale@noaa.gov, Ann Williamson, ann.williamson@noaa.gov, or, Larry Redd, Jr., larry.redd@noaa.gov, by email or by phone at 301-427-8503.

SUPPLEMENTARY INFORMATION: Atlantic BFT fisheries are managed under the 2006 Consolidated Atlantic Highly Migratory Species Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas (ICCAT). The HMS FMP and its amendments are implemented by regulations at 50 CFR part 635. Section 635.27(a) divides the U.S. BFT quota, established by ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

On January 20, 2025, President Trump issued Executive Order (E.O.) 14172 (Restoring Names that Honor American Greatness). As part of the order, the Gulf of Mexico is renamed as the Gulf of America. Consistent with the order, this action uses Gulf of America for all references to the area known as the Gulf of Mexico in the specific regulations at 50 CFR part 635.

As described in § 635.27(a), the current baseline U.S. BFT quota is 1,316.14 metric tons (mt) (not including the 25-mt ICCAT allocated to the United States to account for bycatch of BFT in pelagic longline fisheries in the Northeast Distant Gear Restricted Area). The Angling category baseline quota of 297.4 mt is further subdivided into subquotas by size class (see table 1) as follows: 134.1 mt for school BFT, 154.1 mt for large school/small medium BFT, and 9.2 mt for large medium/giant BFT. The default Angling category daily retention limit is one school, large school, or small medium BFT per vessel per day/trip for HMS Angling permitted vessels and HMS Charter/Headboat permitted vessels when fishing recreationally for BFT (§ 635.23(b)(2)). NMFS recently adjusted the Angling category retention limits from the default daily retention limit of one school, large school, or small medium BFT to one school BFT and zero large school/small medium BFT per vessel per day/trip for private vessels with HMS Angling permits, and two school BFT and zero large school/small medium BFT per vessel per day/trip for charter boat vessels and headboat vessels with HMS Charter/Headboat permits when fishing recreationally for BFT (90 FR 23457, June 3, 2025).

Table 1—BFT Size Classes
Size class | Curved fork length
School | 27 to less than 47 inches (68.5 to less than 119 cm).
Large school | 47 to less than 59 inches (119 to less than 150 cm).
Small medium | 59 to less than 73 inches (150 to less than 185 cm).
Large medium | 73 to less than 81 inches (185 to less than 206 cm).
Giant | 81 inches or greater (206 cm or greater).

Adjustment of Angling Category Daily Retention Limit

Under § 635.23(b)(3), NMFS may increase or decrease the Angling category daily retention limit for any size class of BFT after considering the regulatory determination criteria under § 635.27(a)(7). Also under § 635.23(b)(3), recreational retention limits may be adjusted separately for specific vessel types, such as private vessels, charter boats, or headboats.

As described below, NMFS has considered all of the relevant determination criteria and their applicability to the change in the Angling category retention limit. After considering these criteria, NMFS has decided to adjust the Angling category retention limit as follows:

(1) For private vessels with HMS Angling permits, this action adjusts the limit to one BFT per vessel per day/trip that can measure anywhere from 27 inches (68.5 cm) to less than 73 inches (185 cm) CFL (i.e., one school, large school, or small medium BFT per vessel per day/trip).

(2) For both charter boat vessels and headboat vessels with HMS Charter/Headboat permits when fishing recreationally for BFT, this action adjusts the limit to two BFT per vessel per day/trip measuring 27 inches (68.5 cm) to less than 73 inches (185 cm) CFL, only one of which can be a large school/small medium-sized fish (47 inches (119 cm) to less than 73 inches (185 cm) CFL). In other words, a charter boat vessel or headboat vessel could land two school-sized fish or could land one school-sized fish and one large school/small medium-sized fish.

Regardless of the duration of a fishing trip, no more than a single day's retention limit may be possessed or retained at the end of the trip upon landing. For example, whether a private vessel (fishing under the Angling category retention limit) takes a 2-day trip or makes two trips in 1 day, the day/trip retention limit of one BFT applies and may not be exceeded upon landing.

If needed, NMFS could take another action later in the year to modify these retention limits or close the fishery.

Consideration of the Determination Criteria

As described above, under § 635.23(b)(3), NMFS may increase or decrease the retention limit for any size class of BFT, or change a vessel trip limit to an angler trip limit and vice versa after considering the regulatory determination criteria under § 635.27(a)(7). These considerations include, but are not limited to, the following:

NMFS considered the variations in seasonal distribution, abundance, and migration patterns of BFT, the effects of catch rates in one area precluding vessels in another area from having a reasonable opportunity to harvest a portion of the category's quota, and the optimization of fishing opportunities (§ 635.27(a)(7)(vii), (viii), and (x)). In doing so, NMFS also reviewed the latest information regarding landings and the availability of BFT on the fishing grounds (§ 635.27(a)(7)(ix)). Under the current daily retention limits, only school BFT may be retained by recreational fishermen. Due to the unpredictable nature of BFT availability on the fishing grounds, the migratory nature of this species, and the regional variations in the BFT fishery, school-sized BFT may only be available in certain areas and during certain times of the year. Currently, the distribution of school-sized BFT catch is more concentrated between northern New Jersey and Rhode Island than further north along the east coast. However, in the summer months, catches of large school/small medium sized BFT tend to range further north along the east coast to Massachusetts. Thus, large school/small medium BFT are more geographically spread out. Through this action, the allowance of large school/small medium sized BFT for retention would optimize fishing opportunities by providing additional flexibilities. Furthermore, this retention limit adjustment should provide more equitable fishing opportunities for fishermen along the entire coast to retain available BFT and harvest the available Angling category quota. These adjustments to the retention limits should assist the fishery in achieving optimum yield on a continuing basis and optimizing the ability of all permit categories to harvest available BFT quota allocations.

Regarding the usefulness of information obtained from catches in the Angling category for biological sampling and monitoring of the status of the stock (§ 635.27(a)(7)(i)), biological samples collected from BFT landed by recreational fishermen continue to provide NMFS with valuable parts and data for ongoing scientific studies of BFT age and growth, migration, and reproductive status. Recreational fishermen are the only fishermen who land smaller-sized fish. Because the size data from previous years indicate that a strong year-class is moving through the fishery, allowing recreational fishermen to land a variety of sizes now could provide NMFS the data needed to monitor this year-class and will assist in monitoring the stock overall. Thus, providing additional opportunity to land BFT in the Angling category this summer would support the continued collection of a broad range of data, including size data, for these scientific studies and for stock monitoring purposes.

NMFS also considered the effects of the adjustment on the BFT stock and the effects of the adjustment on accomplishing the objectives of the HMS FMP (§ 635.27(a)(7)(v) and (vi)). Adjusting the retention limits would not alter the established quotas and subquotas, which are implemented consistent with ICCAT Recommendation 22-10, ATCA, and the objectives of the HMS FMP and amendments, which include achieving optimum yield on a continuing basis and optimizing the ability of all permit categories to harvest available BFT quota allocations (also related to § 635.27(a)(7)(x)). In establishing these quotas and subquotas and associated management measures, ICCAT and NMFS considered the best scientific information available, objectives for stock management and status, and effects on the stock. Making these retention limit adjustments is in line with the established management measures and stock status determinations. It is also important that NMFS limit landings to the subquotas both to adhere to the subquota allocations and to ensure that landings are as consistent as possible with the pattern of fishing mortality (e.g., fish caught at each age) that was assumed in the latest stock assessment. These retention limit adjustments are consistent with those objectives.

Regarding the likelihood of a closure if no adjustment is made, the projected ability of the vessels fishing under the Angling category to harvest its quota, and the estimated amounts by which quotas for other categories might be exceeded (§ 635.27(a)(7)(ii), (iii), and (iv)), NMFS considered past landings and landings to date this year for the Angling category and other categories. While landings and landings rates in the Angling category are highly variable, the landings estimates from last year indicate the Angling category exceeded its 2024 quota. Additionally, landings estimates indicate that the 2024 General and Harpoon categories quotas were exceeded. Thus, under § 635.27(a)(9) and consistent with ICCAT requirements, in order to ensure the overall U.S. quota is not exceeded, NMFS expects to take action later this year to reduce the various category quotas consistent with the estimated overharvest. While that action is not yet final, NMFS must still consider the implications of reduced quotas for various categories, including the Angling category. Based on that consideration, and assuming catch rates this year are as high as those from last year, NMFS believes it is likely that the Angling category quota may be reached before the end of the fishing year and therefore the Angling category may need to be closed, potentially later this summer or fall with this retention limit adjustment. However, after considering the other criteria, NMFS is adjusting the retention limits to provide opportunities for anglers to take advantage of the BFT that are currently available on the fishing grounds. NMFS believes this adjustment should provide a reasonable opportunity to harvest the available Angling category quota while maintaining equitable fishing opportunities across the fishery. If needed, NMFS could take another action later in the year to modify the retention limits or close the fishery.

In addition to the specific criteria laid out in § 635.27(a)(7), NMFS considered other relevant factors. Specifically, in implementing this retention limit adjustment, NMFS considered that ICCAT recommendations limit the allowance for landings of school BFT to 10 percent of the U.S. baseline quota (i.e., 134.1 mt, see § 635.27(a)(2)), as well as input on recreational retention limits from the HMS Advisory Panel in 2024 and most recently at its May 2025 meeting. The 2024 school BFT landings represented approximately 11.4 percent of the U.S. baseline annual quota for 2024, slightly exceeding the ICCAT established 10-percent limit. In contrast to previous years, NMFS is currently not setting higher school BFT retention limits than those established in this action due to the potential risk of exceeding the ICCAT tolerance limit on school BFT, and other considerations such as potential effort shifts to BFT fishing as a result of current recreational retention limits for New England groundfish and striped bass and high variability in BFT availability (related to § 635.27(a)(7)(vii)).

Furthermore, the large school/small medium quota for 2024 was exceeded. NMFS examined the results of the 2024 fishing year under the applicable daily retention limits, as well as the observed trend in the recreational fishery toward heavier fish, particularly in the large school and small medium size classes. NMFS believes the retention limits established through this action provide opportunities to harvest the available large school/small medium BFT subquota. If needed, NMFS could take another action later in the year to modify the large school/small medium retention limits or close the fishery.

Lastly, NMFS has also concluded that implementation of separate retention limits for private and charter/headboat vessels is appropriate, recognizing the different nature, social and economic needs, and recent landings results of these components of the recreational BFT fishery. For example, charter operators historically have indicated that a retention limit greater than the default limit of one fish is vital to their ability to attract customers. In addition, Large Pelagics Survey estimates indicate that charter/headboat BFT landings averaged 26 percent of Angling category landings for 2024, with the remaining 74 percent landed by private vessels. In past years, NMFS has acknowledged that a higher limit for headboats (than charter boats) was appropriate, given the limited number of headboats participating in the BFT fishery. However, given that the Angling category quota and subquotas in 2024 were exceeded and there is potential risk to exceeding the 2025 Angling category quota and subquotas, NMFS believes that setting the same charter and headboat daily retention limit is appropriate at this time.

Given these considerations, NMFS has determined that the Angling category daily retention limits applicable to HMS Angling and HMS Charter/Headboat permitted vessels should be adjusted from the current limits. The retention limits established through this action are intended to provide a reasonable opportunity to harvest the available Angling category quota and subquotas, without exceeding them, while maintaining equitable fishing opportunities. NMFS acknowledges that the BFT daily retention limits in this action may result in landings during 2025 that could reach or exceed the annual Angling category quota and subquotas. However, lower retention limits could result in substantial social and economic impacts for the recreational BFT fishery. Furthermore, if effort is lower than previous years or if catch rates are not as high as anticipated, maintaining the current retention limit could result in an underharvest of the Angling category quota and subquotas. As described earlier, if needed and appropriate, NMFS could take another action(s) later in the year to increase or decrease the retention limits or close the fishery. Although NMFS has not closed the recreational fishery prior to the end of the fishing year in recent years (i.e., the fishery has remained open through December), the possibility of NMFS needing to close the fishery earlier in the fishing year (e.g., in the summer or fall) is more likely this year.

Monitoring and Reporting

NMFS will continue to monitor the BFT fishery closely. HMS Angling and HMS Charter/Headboat permitted vessel owners are required to report the catch of all BFT retained or discarded dead, within 24 hours of the landing(s) or the end of each trip, by accessing https://hmspermits.noaa.gov, using the HMS Catch Reporting app, or calling 888-872-8862 (Monday through Friday from 8 a.m. until 4:30 p.m. Eastern Time).

Depending on the level of fishing effort and catch rates of BFT, NMFS may determine that additional retention limit adjustments or closures are necessary to ensure available quota is not exceeded or to enhance scientific data collection from, and fishing opportunities in, all geographic areas. If needed, subsequent adjustments will be published in the Federal Register. In addition, fishermen may access https://hmspermits.noaa.gov, for updates on quota monitoring and inseason adjustments.

HMS Angling and HMS Charter/Headboat permit holders may catch and release (or tag and release) BFT of all sizes, subject to the requirements of the catch-and-release and tag-and-release programs at § 635.26. All BFT that are released must be handled in a manner that will maximize their survival, and without removing the fish from the water, consistent with requirements at § 635.21(a)(1). For additional information on safe handling, see the “Careful Catch and Release” brochure available at https://www.fisheries.noaa.gov/resource/outreach-and-education/careful-catch-and-release-brochure.

Classification

NMFS issues this action pursuant to section 305(d) of the Magnuson-Stevens Act (16 U.S.C. 1855(d)) and regulations at 50 CFR part 635 and this action is exempt from review under Executive Order 12866.

The Assistant Administrator for NMFS (AA) finds that pursuant to 5 U.S.C. 533(b)(B), there is good cause to waive an opportunity for public comment on this action because it is impracticable and contrary to the public interest for the following reasons. Specifically, the regulations implementing the HMS FMP and its amendments provide for inseason retention limit adjustments to respond to the unpredictable nature of BFT availability on the fishing grounds, the migratory nature of this species, and the regional variations in the BFT fishery. Based on available quotas, fishery performance in recent years, and the availability of BFT on the fishing grounds, responsive adjustment of the daily retention limit is warranted to provide additional flexibility to maximize fishing opportunities to land the available BFT quota. It is impracticable for NMFS to have proposed this action earlier, as it needed to consider and respond to complete 2024 and the most recent recreational landings data, as well as the most recent information about daily landing trends and the availability of BFT on the fishing grounds. If NMFS was to offer a public comment period now, after having appropriately considered that information, it would preclude the fishery from harvesting BFT that are legally available consistent with all of the regulatory criteria, and/or could result in selection of a retention limit inappropriately high or low for the amount of quota available for the period. Rather, as fisheries are currently underway under the current Angling category daily retention limit, the additional time between now and July 1 will provide fishery participants the ability to prepare to utilize the additional flexibility and fishing opportunity this retention limit adjustment will provide. Delays in this action from a public comment period would adversely affect those HMS Angling and HMS Charter/Headboat permitted vessels that would otherwise have an opportunity to harvest one large school/small medium BFT per vessel per day/trip, contrary to the public interest. Analysis of available data shows that adjustment to the BFT daily retention limit from the current level would result in minimal risk of exceeding the ICCAT-allocated quota given NMFS's ability to further adjust the retention limit or close the fishery as needed. NMFS provides notification of retention limit adjustments by publishing the notice in the Federal Register, emailing individuals who have subscribed to the Atlantic HMS News electronic newsletter, and updating the information posted on the Atlantic Tunas Information Line and on https://hmspermits.noaa.gov. Taking this action does not raise conservation and management concerns, and would support effective management of the BFT fishery. NMFS notes that the public had an opportunity to comment on the underlying rulemakings that established the U.S. BFT quota and the inseason adjustment criteria.

Because this retention limit adjustment relieves a restriction by providing more flexibility and fishing opportunity to Angling category participants, it is not subject to the 30-day delayed effectiveness provision of the Administrative Procedure Act pursuant to 5 U.S.C. 553(d)(1). Under the current daily retention limits, only school BFT may be retained by recreational fishermen. Due to the unpredictable nature of BFT availability on the fishing grounds, the migratory nature of this species, and the regional variations in the BFT fishery, school-sized BFT may only be available in certain areas and during certain times of the year. Through this action, the allowance of large school/small medium sized BFT for retention would optimize fishing opportunities by providing additional flexibilities.

Authority: 16 U.S.C. 971 et seq. and 1801 et seq.

Dated: June 11, 2025.
Kelly Denit,
Director, Office of Sustainable Fisheries, National Marine Fisheries Service.

[FR Doc. 2025-10954 Filed 6-12-25; 11:15 am]

BILLING CODE 3510-22-P